NUCLEAR REGULATORY COMMISSION

[Docket No. 50-255; Renewed License No. DPR-20]

In the Matter of Consumers Energy Company Nuclear Management Company (Palisades Nuclear Plant); Order Approving Transfer of License and Conforming Amendment

I.

Consumers Energy Company (Consumers) and Nuclear Management Company, LLC (NMC) are holders of Renewed Facility Operating License No. DPR-20, which authorizes the possession, use, and operation of Palisades Nuclear Plant (Palisades). Consumers is authorized to possess and use, and NMC is authorized to possess, use, and operate Palisades. The facility is located at the licensee's site in Van Buren County, Michigan.

II.

By letter dated August 31, 2006, Consumers, NMC, Entergy Nuclear Palisades, LLC (ENP), and Entergy Nuclear Operations, Inc. (ENO) (collectively, “the applicants”) submitted an application to the U.S. Nuclear Regulatory Commission (NRC or Commission) requesting approval of the direct transfer of Renewed Facility Operating License No. DPR-20 from Palisades to ENP. The application is in connection with the sale of Consumer's ownership interest (100 percent) in Palisades to ENP, and the related transfer of operating authority for the facility from NMC to ENO.

Supplemental information was provided by letters dated December 15, 2006, and March 1 and April 4, 2007 (hereinafter, the August 31 application and December 15, 2006, and March 1 and April 4, 2007, supplemental information will be referred to collectively as the “application”). The applicants also requested approval of a conforming license amendment that would replace references to Consumers and NMC in the license with references to ENP and ENO to reflect the transfer of ownership, and would revise paragraph 1.B in the license to be consistent with paragraph 2 regarding the disposition of the Provisional Operating License. No physical changes to the facilities or operational changes were proposed in the application. After completion of the proposed transfer, ENP and ENO would be the owner and operator, respectfully, of the facility.

Approval of the transfer of the facility operating license and conforming license amendment is requested by the applicants pursuant to Sections 50.80 and 50.90 of Title 10 of the Code of Federal Regulations (10 CFR). Notice of the request for approval and opportunity for a hearing were published in the Federal Register on November 16, 2006 (71 FR 66805). No comments were received. A petition for leave to intervene pursuant to 10 CFR 2.309 was received on December 5, 2006, from the Van Buren County, Covert Township, Covert Public Schools, Van Buren County Intermediate School District, Van Buren County District Library, Lake Michigan College, and South Haven Hospitals. A second petition for leave to intervene pursuant to 10 CFR 2.309 was received on December 6, 2006, from Michigan Environmental Council and Public Interest Research Group. The petitions are under consideration by the Commission.

Pursuant to 10 CFR 50.80, no license, or any right thereunder, shall be transferred, directly or indirectly, through transfer of control of the license, unless the Commission shall give its consent in writing. Upon review of the information in the application and other information before the Commission, and relying upon the representations and agreements contained in the application, the NRC staff has determined that ENP is qualified to hold the ownership interests in the facility previously held by Consumers, and ENO is qualified to hold the operating authority under the license, and that the transfer of ownership interests and the operating interests in the facility to ENP and ENO, respectively, described in the application is otherwise consistent with applicable provisions of law, regulations, and orders issued by the Commission, subject to the conditions set forth below. The NRC staff has further found that the application for the proposed license amendment complies with the standards and requirements of the Atomic Energy Act of 1954, as amended (the Act), and the Commission's rules and regulations set forth in 10 CFR Chapter I; the facility will operate in conformity with the applications, the provisions of the Act, and the rules and regulations of the Commission; there is reasonable assurance that the activities authorized by the proposed license amendment can be conducted without endangering the health and safety of the public and that such activities will be conducted in compliance with the Commission's regulations; the issuance of the proposed license amendment will not be inimical to the common defense and security or to the health and safety of the public; and the issuance of the proposed amendment will be in accordance with 10 CFR part 51 of the Commission's regulations and all applicable requirements have been satisfied.

The findings set forth above are supported by NRC safety evaluations dated April 6, 2007.

III.

Accordingly, pursuant to Sections 161b, 161i, and 184 of the Act, 42 U.S.C. Sections 2201(b), 2201(i), and 2234; and 10 CFR 50.80, it is hereby ordered that the transfer of the license, as described herein, to ENP and ENO is approved, subject to the following condition:

Prior to completion of the transfer of the license, Entergy shall provide the Director of the Office of Nuclear Reactor Regulation satisfactory documentary evidence that it has obtained the appropriate amount of insurance required of a licensee under 10 CFR part 140 of the Commission's regulations.

It is further ordered that, consistent with 10 CFR 2.1315(b), the license amendment that makes changes, as indicated in Enclosure 2 to the cover letter forwarding this Order, to conform the license to reflect the subject direct license transfer is approved. The amendment shall be issued and made effective at the time the proposed direct license transfer is completed.

It is further ordered that ENP and ENO shall inform the Director of the Office of Nuclear Reactor Regulation in writing of the date of closing of the transfer of the Consumers and NMC interests in Palisades, at least 1 business day prior to closing. Should the transfer of the license not be completed within one year of this Order's date of issue, this Order shall become null and void, provided; however, that upon written application and for good cause shown, such date may be extended by order.

This Order is effective upon issuance.

For further details with respect to this Order, see the initial application dated August 31, 2006, as supplemented by letters dated December 15, 2006, and March 1 and April 4, 2007, and the non-proprietary safety evaluation dated April 6, 2007, which are available for public inspection at the Commission's Public Document Room (PDR), located at One White Flint North, 11555 Rockville Pike, Room O-1 F21 (First Floor), Rockville, Maryland and accessible electronically from the Agencywide Documents Access and Management System (ADAMS) Public Electronic Reading Room on the Internet at the NRC Web site, http://www.nrc.gov/reading-rm/adams.html. Persons who do not have access to ADAMS or who encounter problems in accessing the documents located in ADAMS, should contact the NRC PDR Reference staff by telephone at 1-800-397-4209, 301-415-4737, or by e-mail at pdr@nrc.gov.

Dated at Rockville, Maryland, this 6th day of April 2007.
For the Nuclear Regulatory Commission.
J.E. Dyer,
Director, Office of Nuclear Reactor Regulation.

[FR Doc. E7-7210 Filed 4-13-07; 8:45 am]

BILLING CODE 7590-01-P